DEPARTMENT OF JUSTICE

Notice of Lodging of Consent Decree Pursuant to the Comprehensive Environmental Response, Compensation, and Liability Act

Notice is hereby given that a consent decree in United States of America v. Sonoco Products Company, Civil Action No. 00-CV-5802 (E.D. Pa.) was lodged with the court on November 15, 2000.

The proposed consent decree resolves the claims of the United States of America against defendant Sonoco Products Company, under section 107 of the Comprehensive Environmental Response, Compensation and Liability Act, as amended (“CERCLA”), 42 U.S.C. 9607, for past response costs at the Struble Trail Superfund Site located at East Caln Township, in Chester County, Pennsylvania (the “Site”), which was owned and operated by Downingtown Paper Company, the predecessor by merger to the Defendant, Sonoco Products Company. The decree obligates the Settling Defendant to reimburse $36,936.98 of the United States' past response costs.

The Department of Justice will receive, for a period of thirty (30) days from the date of this publication, comments relating to the proposed consent decree. Comments should be addressed to the Assistant Attorney General, Environment and Natural Resources Division, P.O. Box 7611, U.S. Department of Justice, Washington, DC 20044-7611, and should refer to United States of America v. Sonoco Products Company, DOJ Ref. #90-11-3-07203.

The proposed consent decree may be examined and copied at the Office of the United States Attorney, 615 Chestnut Street, Suite 1250, Philadelphia, PA 19106; or at the Region III Office of the Environmental Protection Agency, c/o Thomas A. Cinti, Assistant Regional Counsel, 1650 Arch Street, Philadelphia, PA 19103. A copy of the proposed consent decree may be obtained by mail from the Consent Decree Library, P.O. Box No. 7611, Washington DC 20044. In requesting a copy, please refer to the referenced case and enclose a check in the amount of $5.25 (25 cents per page reproduction costs), payable to the Consent Decree Library. A copy of the exhibits to the decree may be obtained from the same source for an additional charge.

Nuriye C. Uygur,
Assistant U.S. Attorney's Office for the Eastern District of Pennsylvania.

[FR Doc. 01-935 Filed 1-10-01; 8:45 am]

BILLING CODE 4410-15-M